ENVIRONMENTAL PROTECTION AGENCY

[ER-FRL-6675-3]

Environmental Impacts Statements; Notice of Availability

Responsible Agency: Office of Federal Activities, General Information (202) 564-7167 or http://www.epa.gov/compliance/nepa/.

Weekly receipt of Environmental Impact Statements

Filed May 8, 2006 Through May 12, 2006.

Pursuant to 40 CFR 1506.9.

EIS No. 20060178, Draft EIS, WPA, 00, Big Stone II Power Plant and Transmission Project, Propose Power Plant, Transmission Alternatives, and Substation Modification, (DOE/EIS-0377), U.S. Army COE Section 10 and 404 Permits, Big Stone City, Grant County, SD and MN, Comment Period Ends: July 3, 2006, Contact: Nancy Werdel 720-962-7251.

EIS No. 20060179, Final EIS, AFS, WY, Moose-Gypsum Project, Proposes to Authorize Vegetation Treatments, Watershed Improvements, and Travel Plan and Recreation Updates, Pinedale Ranger District, Bridger-Teton National Forest, Sublette County, WY, Wait Period Ends: June 19, 2006, Contact: Craig Trulock 307-367-4326.

EIS No. 20060180, Final EIS, AFS, IN, Tell City Windthrow 2004 Project, Salvage Harvest and Prescribed Burning of Windthrow Timber, Implementation, Hoosier National Forest, Perry, Crawford and Dubois Counties, IN, Wait Period Ends: June 19, 2006, Contact: Ron Ellis 812-275-5987.

EIS No. 20060181, Draft EIS, BLM, 00, Devers-Palo Verde No. 2 Transmission Line Project, Construction and Operation a New 230-mile 500 kV Electric Transmission Line between Devers Substation in California and Harquahala Generating Substation in Arizona, Comment Period Ends: July 5, 2006, Contact: Greg Hill 760-251-4840.

EIS No. 20060182, Draft EIS, COE, CA, San Clemente Dam Seismic Safety Project, Increase Dam Safety to Meet Current Design Standards, Monterey County, CA, Comment Period Ends: July 3, 2006, Contact: Robert Smith 415-977-8450.

EIS No. 20060183, Final EIS, FAA, UT, St. George Municipal Airport Replacement, Funding, City of St. George, Washington County, UT, Wait Period Ends: June 19, 2006, Contact: T.J. Stetz 425-227-2611.

EIS No. 20060184, Draft EIS, COE, MD, Masonville Dredge Material Containment Facility (DMCF), Construction from Baltimore Harbor Channel north of Point-Rock Point Line, U.S. Army COE Section 10 and 404 Permits, Baltimore, MD, Comment Period Ends: July 7, 2006, Contact: Jon Romeo 410-962-6079.

EIS No. 20060185, Final EIS, AFS, MI, Hiawatha National Forest, Proposed Land and Resource Management Plan, Forest Plan Revision, Implementation, Alger, Cheboygan, Chippewa, Delta, Luce, Mackinac, Marquette and Schoolcraft Counties, MI, Wait Period Ends: June 19, 2006, Contact: Dave Maercklein 906-789-3301.

EIS No. 20060186, Final Supplement, TPT, CA, Presidio Trust Public Health Service Hospital (PUSH or Building 1801) at the Presidio of San Francisco (Area B) of Presidio Trust Management Plan, Rehabilitation and Reuse of Buildings, Gold Gate National Recreation Area, San Francisco Bay, Marin County, CA, Wait Period Ends: June 19, 2006, Contact: John G. Pelka 415-561-5300.

EIS No. 20060187, Draft EIS, AFS, WI, Long Rail Vegetation and Transportation Management Project, Implementation, Eagle River-Florence Ranger District, Chequamegon-Nicolet National Forest, Florence and Forest Counties, WI, Comment Period Ends: July 3, 2006, Contact: Christine Brunner 715-479-2827.

EIS No. 20060188, Draft EIS, NOA, CA, Channel Islands National Marine Sanctuary Management Plan Review, Implementation, Santa Barbara and Ventura Counties, CA, Comment Period Ends: July 21, 2006, Contact: Chris Mobley 805-966-7107 x465.

EIS No. 20060189, Final EIS, NRC, OH, American Centrifuge Plant, Gas Centrifuge Uranium Enrichment Facility, Construction, Operation, and Decommission, License Issuance, Piketon, OH, Wait Period Ends: June 19, 2006, Contact: Matthew Blevins 301-415-7684.

EIS No. 20060190, Final EIS, AFS, MI, Ottawa National Forest, Proposed Land and Resource Management Plan, Forest Plan Revision, Implementation, Baraga, Gogebic, Houghton, Iron, Marquette and Ontonagan Counties, MI, Wait Period Ends: June 19, 2006, Contact: Robert Brenner 906-931-1330 x317.

EIS No. 20060191, Final EIS, FAA, FL, Panama City-Bay County International Airport (PFN), Proposed Relocation to a New Site, NPDES Permit and U.S. Army COE Section 404 Permit, Bay County, FL, Wait Period Ends: June 19, 2006, Contact: Virginia Lane 407-872-6331 Ext. 129.

EIS No. 20060192, Draft EIS, AFS, ID, Myrtle Creek Healthy Forest Restoration Act Project, Proposes Aquatic and Vegetation Improvement Treatments, Panhandle National Forests, Bonners Ferry Ranger District, City of Bonners Ferry, Boundary County, ID, Comment Period Ends: July 3, 2006, Contact: Doug Nishek 208-267-5561.

EIS No. 20060193, Final EIS, AFS, UT, Ogden Ranger District Travel Plan, To Update the Travel Management Plan, Wasatch-Cache National Plan, Ogden Ranger District, Box Elder, Cache, Morgan, Weber and Rich Counties, UT, Wait Period Ends: June 19, 2006, Contact: Rick Vallejos 801-625-5112.

EIS No. 20060194, Draft EIS, AFS, 00, Kootenai National Forest Invasive Plant Management, Proposes to Manage Noxious Weed and Invasive Plant Species, Lincoln Sanders, Flathead Counties, MT and Bonner and Boundary Counties, ID, Comment Period Ends: July 3, 2006, Contact: Ellen Sullivan 406-296-7114.

EIS No. 20060195, Draft EIS, CGD, MA, Northeast Gateway Deepwater Port License Application, Construct, Own and Operate a Deepwater Port to Import Liquefied Natural Gas (LNG) in Massachusetts Bay, City of Gloucester, MA, Comment Period Ends: July 3, 2006, Contact: Mark Prescott 202-267-0225.

EIS No. 20060196, Final EIS, COE, FL, South Florida Water Management District, (SFWMD), Proposes Construction and Operation Everglades Agricultural Area Reservoir A-1 Project, Lake Okeechobee, Palm Beach County, FL, Wait Period Ends: June 19, 2006, Contact: Tori White 561-742-8888.

Amended Notices

EIS No. 20060136, Draft EIS, AFS, AK, Kenai Winter Access Project, Develop a Winter Access Management Plan for 2006/2007 Winter Season, Implementation, Seward Ranger District, Chugach National Forest, Located on the Kenai Peninsula in Southcentral, AK, Comment Period Ends: June 12, 2006, Contact: Sharon Randall 907-743-9497.

Revision to FR Notice Published April 21, 2006: Comment Period Extended from June 5, 2006 to June 12, 2006.

EIS No. 20060162, Draft EIS, FHW, 00, TIER 1—DEIS Trans-Texas Corridor—35 (TTC-35) System, Improvement to International, Interstate and Intrastate Movement of Goods and People, Oklahoma-Mexico/Gulf Coast Element, Comment Period Ends: August 21, 2006, Contact: Salvador Decampo 512-536-5950.

Revision to FR Notice Published May 5, 2006: Comment Period Extended from June 19, 2006 to August 21, 2006.

Dated: May 16, 2006.
Robert W. Hargrove,
Director, NEPA Compliance Division, Office of Federal Activities.

[FR Doc. E6-7663 Filed 5-18-06; 8:45 am]

BILLING CODE 6560-50-P